DEPARTMENT OF TRANSPORTATION

Federal Aviation Administration

14 CFR Part 39

[Docket No. FAA-2005-20138; Directorate Identifier 2004-NM-167-AD]

RIN 2120-AA64

Airworthiness Directives; Boeing Model 757-200, -200PF, and -200CB Series Airplanes Equipped With Pratt & Whitney or Rolls Royce Engines

AGENCY: Federal Aviation Administration (FAA), Department of Transportation (DOT).

ACTION: Notice of proposed rulemaking (NPRM).

SUMMARY: The FAA proposes to adopt a new airworthiness directive (AD) for certain Boeing Model 757-200, -200PF, and -200CB series airplanes. This proposed AD would require inspecting to determine the part number of the upper link forward fuse pins of the engine struts; and replacing the fuse pins as necessary. This proposed AD is prompted by a report indicating that, due to an incorrect listing in the illustrated parts catalog, persons performing maintenance on the engine strut(s) could have installed an incorrect upper link forward fuse pin. We are proposing this AD to prevent a ruptured wing box, due to the engine not separating safely during certain emergency landing conditions, which could lead to a fuel spill and consequent fire.

DATES: We must receive comments on this proposed AD by March 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: Room PL-401 on the plaza level of the Nassif Building, 400 Seventh Street SW, Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20138; the directorate identifier for this docket is 2004-NM-167-AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION:

Comments Invited

We invite you to submit any relevant written data, views, or arguments regarding this proposed AD. Send your comments to an address listed under ADDRESSES. Include “Docket No. FAA-2005-20138; Directorate Identifier 2004-NM-167-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that, due to an incorrect listing in the illustrated parts catalog, an operator performing maintenance on the engine strut(s) could have installed, as a replacement for an upper link forward fuse pin having part number (P/N) 311N5501-1, an incorrect fuse pin having P/N 311N5501-2. An incorrect fuse pin could prevent the engine from separating safely from the airplane upon abrupt contact with the ground or a massive ground object during an uncontrolled or wheels up emergency landing. This condition, if not corrected, could cause a ruptured wing box, due to the engine not separating safely during certain emergency landing conditions, which could lead to a fuel spill and consequent fire.

Relevant Service Information

We have reviewed Boeing Special Attention Service Bulletin 757-54-0048, dated May 13, 2004. The service bulletin describes procedures for inspecting to determine the part number of the upper link forward fuse pins of the engine struts and replacing the fuse pins with fuse pins having P/N 311N5501-1, if necessary. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and Service Information.”

Differences Between the Proposed AD and Service Information

Boeing Special Attention Service Bulletin 757-54-0048 specifies to inspect the upper link forward fuse pin to determine the P/N; however, we have examined a fuse pin returned from service and found the P/N to be unreadable. Therefore, we are proposing one alternate method of identifying the fuse pin by measuring the inside diameter of the fuse pin bore. We have coordinated the alternate method with the manufacturer and included appropriate procedures in this proposed AD.

Boeing Special Attention Service Bulletin 757-54-0048 permits the use of an “approved equivalent procedure” for inspection and necessary replacement of the fuse pin(s); however, this proposed AD would require that inspection and replacement be done in accordance with the instructions of the aircraft maintenance manual (AMM) as specified in the service bulletin.

Clarification of Applicability

Boeing Special Attention Service Bulletin 757-54-0048 specifies that it is applicable to airplanes having line numbers 1 through 735 inclusive; however, airplanes having line numbers 1 through 618 inclusive were originally manufactured with upper link forward fuse pins P/N 311N5060-1. P/N 311N5060-1 fuse pins are replaced with P/N 311N5501-1 fuse pins when the strut improvement modification required by AD 2004-12-07, amendment 39-13666, (69 FR 33561, dated June 16, 2004); or AD 2003-18-05, amendment 39-13296, (68 FR 53496, dated September 11, 2003); as applicable, is incorporated on the airplane.

Clarification of Inspection Terminology

In this proposed AD, the “detailed visual inspection” specified in the Boeing service bulletin is referred to as a “detailed inspection.” We have included the definition for a detailed inspection in Note 1 of the proposed AD.

Costs of Compliance

There are about 735 airplanes of the affected design in the worldwide fleet. This proposed AD would affect about 478 airplanes of U.S. registry. The proposed inspection would take about 1 work hour per fuse pin (2 fuse pins per airplane), at an average labor rate of $65 per work hour. Based on these figures, the estimated cost of the proposed AD for U.S. operators is $62,140, or $130 per airplane.

Replacement of any upper link forward fuse pin, if required, would take about 26 work hours, at an average labor rate of $65 per work hour. Required parts would cost about $431. Based on these figures, the estimated cost of a proposed replacement is $2,121 per fuse pin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20138; Directorate Identifier 2004-NM-167-AD.

Comments Due Date

(a) The Federal Aviation Administration (FAA) must receive comments on this AD action by March 14, 2005.

Affected ADs

(b) None.

Applicability

(c) This AD applies to Boeing Model 757-200, -200PF, and -300 series airplanes, line numbers 1 through 735 inclusive, certificated in any category; equipped with Pratt & Whitney or Rolls Royce engines.

Unsafe Condition

(d) This AD was prompted by a report indicating that, due to an incorrect listing in the illustrated parts catalog, persons performing maintenance on the engine strut(s) could have installed an incorrect upper link forward fuse pin having part number (P/N) 311N5501-2. We are issuing this AD to prevent a ruptured wing box, due to the engine not separating safely during certain emergency landing conditions, which could lead to a fuel spill and consequent fire.

Compliance

(e) You are responsible for having the actions required by this AD performed within the compliance times specified, unless the actions have already been done.

Inspection of Fuse Pin

(f) Within 24 months after the effective date of this AD, perform a detailed inspection to determine the P/N of the upper link forward fuse pins of the engine struts, in accordance with the Accomplishment Instructions of Boeing Special Attention Service Bulletin 757-54-0048, dated May 13, 2004, except as provided in paragraph (g) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If the fuse pin is P/N 311N5501-1 or P/N 311N5060-1, no further action is required for that fuse pin.

(2) If the fuse pin is P/N 311N5501-2, prior to further flight, replace the fuse pin with a new or serviceable fuse pin, P/N 311N5501-1, in accordance with the Accomplishment Instructions of the service bulletin.

(3) If the P/N of the fuse pin cannot be determined by inspection, use a tool such as an inside reading micrometer to determine the inside diameter (ID) of the fuse pin bore.

(i) If the ID of the fuse pin bore is greater than or equal to 0.850 inch, no further action is required for that fuse pin.

(ii) If the ID of the fuse pin bore is less than 0.850 inch, prior to further flight, replace the fuse pin as specified in paragraph (f)(2) of this AD.

(g) Where Boeing Special Attention Service Bulletin 757-54-0048 permits the use of an “approved equivalent procedure” for access and replacement of the fuse pin(s), this AD requires that access and replacement be done in accordance with the instructions of the aircraft maintenance manual (AMM) as specified in the service bulletin.

Parts Installation

(h) As of the effective date of this AD, no person may install a fuse pin, P/N 311N5501-2, on any airplane identified in the applicability of this AD.

Alternative Methods of Compliance (AMOCs)

(i)(1) The Manager, Seattle Aircraft Certification Office (ACO), FAA, has the authority to approve AMOCs for this AD, if requested in accordance with the procedures found in 14 CFR 39.19.

(2) An AMOC that provides an acceptable level of safety may be used for any repair required by this AD, if it is approved by a Boeing Company Designated Engineering Representative who has been authorized by the Manager, Seattle ACO, to make those findings. For a repair method to be approved, the approval must specifically refer to this AD.

Issued in Renton, Washington, on January 18, 2005.
Ali Bahrami,
Manager, Transport Airplane Directorate, Aircraft Certification Service.

[FR Doc. 05-1586 Filed 1-27-05; 8:45 am]

BILLING CODE 4910-13-P